DEPARTMENT OF ENERGY

Federal Energy Regulatory Commission

[Docket No. RP00-332-000]

ANR Pipeline Company; Notice of Technical Conference

September 25, 2000.

On June 15, 2000, ANR Pipeline Company (ANR) filed in compliance with Order No. 637. A technical conference to address ANR's filing was held on September 20, 2000.

Take notice that an additional session of the technical conference will be held on Wednesday, October 11, 2000 at 10 a.m. in a room to be designated at the offices of the Federal Energy Regulatory Commission, 888 First Street, NE., Washington, DC.

All interested persons and Staff are permitted to attend.

David P. Boergers,
Secretary.

[FR Doc. 00-24993 Filed 9-28-00; 8:45 am]

BILLING CODE 6717-01-M